DEPARTMENT OF TRANSPORTATION

Federal Aviation Administration

14 CFR Part 39

[Docket No. FAA-2006-26495; Directorate Identifier 2006-CE-80-AD; Amendment 39-14997; AD 2007-06-16]

RIN 2120-AA64

Airworthiness Directives; Alpha Aviation Design Limited (Type Certificate No. A48EU Previously Held by APEX Aircraft and AVIONS PIERRE ROBIN) Model R2160 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI references Alpha Aviation Service Bulletin AA-SB-28-002, dated June 28, 2006, which describes the unsafe condition as:

Development of the New Zealand produced Alpha 160A aircraft identified an issue with the fuel shut-off valve, where it may not be possible to switch the valve ON once the valve has been placed in the OFF position. This is due to friction in the shut-off system.

The fuel shut-off valve, which is normally ON, is a safety feature to allow the pilot to stop fuel flow to the engine in an emergency situation such as a forced landing without power. The fuel shut-off control is guarded and requires a deliberate action by the pilot to operate.

Not withstanding this, a hazardous situation is possible if the fuel shut-off valve is inadvertently switched OFF in flight and the pilot is not able to switch it back ON.

We are issuing this AD to require actions to correct the unsafe condition on these products.

DATES: This AD becomes effective April 24, 2007.

The Director of the Federal Register approved the incorporation by reference of certain publications listed in this AD as of April 24, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on January 8, 2007 (72 FR 674). That NPRM proposed to correct an unsafe condition for the specified products. The MCAI references Alpha Aviation Service Bulletin AA-SB-28-002, dated June 28, 2006, which states that:

Development of the New Zealand produced Alpha 160A aircraft identified an issue with the fuel shut-off valve, where it may not be possible to switch the valve ON once the valve has been placed in the OFF position. This is due to friction in the shut-off system.

The fuel shut-off valve, which is normally ON, is a safety feature to allow the pilot to stop fuel flow to the engine in an emergency situation such as a forced landing without power. The fuel shut-off control is guarded and requires a deliberate action by the pilot to operate.

Not withstanding this, a hazardous situation is possible if the fuel shut-off valve is inadvertently switched OFF in flight and the pilot is not able to switch it back ON.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 10 products of U.S. registry. We also estimate that it will take about 3 work-hours per product to comply with basic requirements of this AD. The average labor rate is $80 per work-hour. Required parts will cost about $300 per product. Where the service information lists required parts costs that are covered under warranty, we have assumed that there will be no charge for these parts. As we do not control warranty coverage for affected parties, some parties may incur costs higher than estimated here. Based on these figures, we estimate the cost of this AD to the U.S. operators to be $5,400, or $540 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-06-16 Alpha Aviation Design Limited (Type Certificate No. A48EU previously held by APEX Aircraft and AVIONS PIERRE ROBIN): Amendment 39-14997; Docket No. FAA-2006-26495; Directorate Identifier 2006-CE-80-AD.

Effective Date

(a) This airworthiness directive (AD) becomes effective April 24, 2007.

Affected ADs

(b) None.

Applicability

(c) This AD applies to Model R2160 airplanes, serial numbers 001 through 191, certificated in any category.

Reason

(d) The mandatory continuing airworthiness information (MCAI) references Alpha Aviation Service Bulletin AA-SB-28-002, dated June 28, 2006, which states that:

Development of the New Zealand produced Alpha 160A aircraft identified an issue with the fuel shut-off valve, where it may not be possible to switch the valve ON once the valve has been placed in the OFF position. This is due to friction in the shut-off system.

The fuel shut-off valve, which is normally ON, is a safety feature to allow the pilot to stop fuel flow to the engine in an emergency situation such as a forced landing without power. The fuel shut-off control is guarded and requires a deliberate action by the pilot to operate.

Not withstanding this, a hazardous situation is possible if the fuel shut-off valve is inadvertently switched OFF in flight and the pilot is not able to switch it back ON.

Actions and Compliance

(e) Unless already done, do the following actions:

(1) To prevent the shut-off valve from remaining partially closed when the selector is turned to the ON position, due to the possibility of excess friction in the fuel shut-off valve causing deflection of the push pull cable, accomplish the inspection and rework instructions in Alpha Aviation Service Bulletin AA-SB-28-002, dated June 28, 2006, within 25 hours time-in-service (TIS) after the effective date of this AD.

(2) If the fuel shut-off valve cable is bent, replace the cable per Alpha Aviation Service Bulletin AA-SB-28-002, before further flight.

(3) If the force required to operate the fuel shut-off valve exceeds the limits specified in Alpha Aviation Service Bulletin AA-SB-28-002, dated June 28, 2006, rework or replace the valve as required, per Alpha Aviation Service Bulletin AA-SB-28-002, dated June 28, 2006, before further flight.

FAA AD Differences

Note: This AD differs from the MCAI and/or service information as follows: No differences.

Other FAA AD Provisions

(f) The following provisions also apply to this AD:

(1) Alternative Methods of Compliance (AMOCs): The Manager, Standards Staff, FAA, ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(g) Refer to MCAI Airworthiness Authority of New Zealand AD DCA/R2000/39, dated August 31, 2006; and Alpha Aviation Service Bulletin AA-SB-28-002, dated June 28, 2006, for related information.

Material Incorporated by Reference

You must use Alpha Aviation Service Bulletin AA-SB-28-002 (Service Bulletin number is indicated at top of page), dated June 28, 2006, to do the actions required by this AD, unless the AD specifies otherwise.

(1) The Director of the Federal Register approved the incorporation by reference of this service information under 5 U.S.C. 552(a) and 1 CFR part 51.

(2) For service information identified in this AD, contact Alpha Aviation Design Ltd., Ingram Road, Hamilton Airport, R.D.2. Hamilton 3282, New Zealand.

(3) You may review copies at the FAA, Central Region, Office of the Regional Counsel, 901 Locust, Room 506, Kansas City, Missouri 64106; or at the National Archives and Records Administration (NARA). For information on the availability of this material at NARA, call 202-741-6030, or go to: http://www.archives.gov/federal_register/code_of_federal_regulations/ibr_locations.html.

Issued in Kansas City, Missouri, on March 9, 2007.
David R. Showers,
Acting Manager, Small Airplane Directorate, Aircraft Certification Service.

[FR Doc. E7-4861 Filed 3-19-07; 8:45 am]

BILLING CODE 4910-13-P